DEPARTMENT OF COMMERCE

Submission for OMB Review; Comment Request

The Department of Commerce has submitted to the Office of Management and Budget (OMB) for clearance the following proposal for collection of information under the provisions of the Paperwork Reduction Act (44 U.S.C. Chapter 35).

Agency: National Institute of Standards and Technology (NIST).

Title: Project 25 Compliance Assessment Program—Laboratory Application for Assessment and Recognition.

OMB Approval Number: None.

Form Number(s): None.

Type of Review: Regular submission.

Burden Hours: 20.

Number of Respondents: 20.

Average Hours per Response: 1.

Needs and Uses: The Project 25 Compliance Assessment Program was developed by the Departments of Commerce and Homeland Security to improve public safety confidence in purchasing land mobile radio (LMR) equipment built to Project 25 LMR (P25) standards, especially those P25 standards related to improving interoperability between different manufacturer's radio systems. A key part of the program involves experts assessing participating laboratories to determine that they have the requisite technical competence and resources needed to test P25 equipment. P25 CAP identifies competent laboratories through assessments by trained teams and promotes the acceptance of compliant test results from these laboratories. The information collected through this process is to establish the suitability of applying laboratories and gather basic business information.

Affected Public: Business or other for-profit organizations; not-for-profit institutions; federal government; and state, local or tribal government.

Frequency: Annually.

Respondent's Obligation: Required to obtain or retain benefits.

OMB Desk Officer: Jasmeet Seehra, (202) 395-3123.

Copies of the above information collection proposal can be obtained by calling or writing Diana Hynek, Departmental Paperwork Clearance Officer, (202) 482-0266, Department of Commerce, Room 6625, 14th and Constitution Avenue, NW., Washington, DC 20230 (or via the Internet at dHynek@doc.gov).

Written comments and recommendations for the proposed information collection should be sent within 30 days of publication of this notice to Jasmeet Seehra, OMB Desk Officer, FAX number (202) 395-5806 or via the Internet at Jasmeet_K._Seehra@omb.eop.gov.

Dated: June 30, 2008.
Gwellnar Banks,
Management Analyst, Office of the Chief Information Officer.

[FR Doc. E8-15221 Filed 7-3-08; 8:45 am]

BILLING CODE 3510-13-P